DEPARTMENT OF VETERANS AFFAIRS

Privacy Act of 1974; Amendment of System of Records

AGENCY: Department of Veterans Affairs.

ACTION: Notice.

SUMMARY: Notice is hereby given that the Department of Veterans Affairs (VA) is amending the system of records entitled “Current and Former Accredited Representative, Claims Agent, Representative and Claims Agent Applicant and Rejected Applicant and Attorney Records—VA” (01VA022) as set forth in the Federal Register, 40 FR 38095 (8/26/75), and amended in 47 FR 1460 (1/13/82), 54 FR 30969 (7/25/89), and 59 FR 47377 (9/15/94). VA is amending the system notice by revising the paragraphs on System Location, Categories of Individuals Covered by the System, Categories of Records in the System, Retention and Disposal, and Record Access Procedures, and by deleting current routine uses 10 and 11 and adding two new routine uses 10 and 11.

DATES: Comments on the proposed amendments to this system of records must be received no later than September 23, 2002. If no public comments are received by this date, the amendments will become effective on September 23, 2002.

ADDRESSES: You may mail or hand-deliver written comments concerning the proposed new system of records to the Office of Regulatory Law (02D), Department of Veterans Affairs, 810 Vermont Avenue, NW., Washington, DC 20420; or fax comments to (202) 273-9289; or email comments to OGCRegulations@mail.va.gov. All relevant material received before September 23, 2002, will be considered. Comments will be available for public inspection at the above address in the Office of Regulatory Law, Room 1158, between the hours of 8 a.m. and 4:30 p.m., Monday through Friday (except holidays).

FOR FURTHER INFORMATION CONTACT: Martin Sendek, Staff Attorney, Professional Staff Group II, Office of General Counsel, Department of Veterans Affairs, 810 Vermont Avenue, NW., Washington, DC 20420, (202) 273-6330.

SUPPLEMENTARY INFORMATION: VA is changing the System Location paragraph by deleting the phrase “District Counsel Offices” and replacing it with the phrase “Regional Counsel Offices” because the Office of General Counsel (OGC) reorganized its field offices, and in the course of that reorganization, renamed the remaining offices as “Regional Counsel Offices”.

Changes to the Categories of Individuals Covered by the System and Categories of Records in the System reflect the addition of certain information on attorneys to the system of records, clarify the system description, and update the system description for consistency with current form designations.

Paragraph (2) under Categories of Individuals Covered by the System is rewritten to more clearly state the individuals covered, and to delete the redundant statement that claims agents are not attorneys. Under VA regulations, claims agents, by definition, are not attorneys. OGC is deleting the language currently in paragraph (4) because those records are now maintained by the Veterans Benefits Administration. The new paragraph (4) reflects records that OGC maintains on attorneys, and additional records that it will maintain under proposed regulations, once published in final form. The proposed rule was published at 63 FR 59495 (1998).

VA is amending three paragraphs under Categories of Records in the System. Paragraph (6) is amended to reflect that VA has new form numbers for the applications of service organization representatives and claims agents to represent veterans before VA. Also, claims agents are moved from paragraph (7) to paragraph (6). The language of paragraph (7) is not amended; however, it now will only cover individuals who apply to represent individuals before VA, generally on a one-time basis, who are neither service organization representatives nor claims agents. An example would be an individual who seeks to represent his brother on his brother's claim. Finally, paragraph (9) is amended by replacing the word “termination” with the word “cancellation”, which is the term that has been used in the applicable VA regulation. Paragraph (9) will also include records on probation or reprimand of individuals for conduct associated with their representational activities when the regulation published at 63 FR 59495 (1998) is published as a final rule.

The Records Retention and Disposal paragraph is changed to reflect current OGC policies in these subject areas.

Routine Uses. OGC no longer needs to make the disclosures authorized under current routine uses 10 and 11, and, accordingly, VA is rescinding them. OGC, however, does need to disclose information in two situations for which there currently are no routine uses. Consequently, OGC is inserting those two new routine uses as new routine uses 10 and 11 in place of the routine uses rescinded. New routine use 10 permits VA to release information pertaining to unlawful, unprofessional, or unethical actions by an individual in this record system to employers, and licensing organizations, such as State bar associations, when VA determines that the information relates to activities for which the individual is employed or to activities subject to the licensing organization; e.g., possible ethical violations by attorneys. For example, if VA cancels the accreditation of an individual veterans service organization employee to represent veterans, VA must be able to tell the service organization that its employee may no longer represent veterans on behalf of the service organization before VA. The second routine use (new routine use 11) would allow VA to share the same information with other Federal and State agencies, and Federal courts before whom these individuals may be authorized to appear.

A “Report of Altered System of Records” and an advance copy of the revised system notice have been sent to the chairmen and ranking members of the Committee on Governmental Reform of the House of Representatives, the Committee on Governmental Affairs of the Senate, and the Office of Management and Budget, as required by 5 U.S.C. 552a(o) (Privacy Act) and guidelines issued by the Office of Management and Budget.

Approved: August 9, 2002.
Anthony J. Principi,
Secretary of Veterans Affairs.

01VA022

SYSTEM NAME:

Current and Former Accredited Representative, Claims Agent, Representative and Claims Agent Applicant and Rejected Applicant and Attorney Records—VA

SYSTEM LOCATION:

[The phrase “District Counsel Offices” is replaced by the phrase “Regional Counsel Offices”.]

* * * * *

CATEGORIES OF INDIVIDUALS COVERED BY THE SYSTEM:

* * * * *

(2) Claims agents who have applied for accreditation, are currently accredited, or have previously been accredited by VA to represent claimants for benefits;

* * * * *

(4) Attorneys who have been the subject of correspondence, investigations, or proceedings relating to their fitness to represent claimants for benefits before VA.

CATEGORIES OF RECORDS IN THE SYSTEM:

* * * * *

(6) VA Forms 2-21 and 21, (Application for Accreditation as Service Organization Representative) 21a, (Application for Accreditation as a Claims Agent);

* * * * *

(9) Documents, decisions, correspondence, and other information relating to or including the granting, denial, suspension, or cancellation of accreditation of representatives, claims agents, or attorneys, and information concerning the placement of representatives, claims agents, or attorneys on probation by VA or VA's issuance of a reprimand to such an individual pertaining to conduct relating to representation of claimants for benefits before VA.

* * * * *

ROUTINE USES OF RECORDS MAINTAINED IN THE SYSTEM, INCLUDING CATEGORIES OF USERS AND THE PURPOSES OF SUCH USES:

* * * * *

10. The Office of General Counsel may disclose the name and address of any prospective, present, or former accredited representative, claims agent, or attorney, and any information concerning such individual that relates to unlawful, unprofessional, or unethical actions by that individual or to VA's denial, cancellation, suspension or termination of an individual's VA accreditation, or to both, where applicable, to employing entities and State and Federal licensing organizations when such information may be relevant to the initial or continued employment or licensing of a prospective, present, or former accredited representative, claims agent, or attorney by an employing entity or licensing organization. VA will not disclose the names and home addresses of veterans and their dependents to licensing organizations pursuant to this routine use.

11. The Office of General Counsel may disclose the name and address of any prospective, present, or former accredited representative, claims agent, or attorney, and any information concerning such individual that relates to unlawful, unprofessional, or unethical actions by that individual or to VA's denial, cancellation, suspension or termination of an individual's VA accreditation, or to both, where applicable, to other Federal and State agencies and to Federal courts when such information may be relevant to the individual's provision of representational services before such agency or court. VA will not disclose the names and home addresses of veterans and their dependents pursuant to this routine use.

POLICIES AND PRACTICES FOR STORING, RETRIEVING, ACCESSING, RETAINING, AND DISPOSING OF RECORDS IN THE SYSTEM

* * * * *

RETENTION AND DISPOSAL:

VA maintains and disposes of records in accordance with records disposition authority approved by the Archivist of the United States.

* * * * *

RECORD ACCESS PROCEDURES

Individuals seeking copies of records under this system that pertain to themselves, or seeking to amend such records, should make those requests under the Privacy Act. Individuals seeking copies of records pertaining to others should request them under the Freedom of Information Act. All such requests should be in writing, over the original, handwritten signature of the requester, and should be mailed to: FOIA/PA Officer (026G), Office of General Counsel, 810 Vermont Ave., NW., Washington, DC 20420.

* * * * *

[FR Doc. 02-21368 Filed 8-21-02; 8:45 am]

BILLING CODE 8320-01-P